DEPARTMENT OF DEFENSE

Department of the Army

Draft Environmental Impact Statement (DEIS) for Future Development and Operations at Fort George G. Meade, Maryland

AGENCY: Department of the Army, DoD.

ACTION: Notice of Availability.

SUMMARY: This announces the availability of the DEIS that assesses the effects of future development and operations at Fort Meade on the natural and human environment.

The Proposed Action is the preferred alternative of the DEIS, and includes future development and operations of Fort Meade's Real Property Master Plan expected to occur on the installation between 2000 and 2005 as part of plans to further Fort Meade's new mission as a Federal administrative center. The Proposed Action identifies 11 projects as being representative of the expected build out during this time. These consist of construction of new facilities that would consolidate tenants from dilapidated World War II structures and off-post leased facilities into more cost efficient and effective facilities; demolition and construction of barracks and mess halls; and providing on-post development opportunities for tenants on installations that are currently subject to Base Realignment and Closure. Other alternatives considered by the DEIS include the No Action Alternative and Alternative A. The No Action Alternative is defined as the normal daily operations at Fort Meade and adjacent areas as of 1999. Alternative A consists of constructing 9 of the 11 projects purposed by the Proposed Action, and excludes the two projects least likely to occur. Alternative A would reduce the number of additional personnel envisioned by the full build out of the Proposed Action to the installation by 272, or 30 percent of the 912 additional personnel included in the Proposed Action.

DATES: Written comments received within 45 days of the publication of this Notice of Availability by the Environmental Protection Agency in the Federal Register for this action will be considered by the Army during final decision making and the preparation of the Final Environmental Impact Statement (FEIS).

ADDRESSES: Send requests for a copy of the DEIS or provide written comments to Commander, Fort George G. Meade, ATTN: ANME-DPW (Mr. Jim Gebhardt), Bldg. 239, 2½ Street and Ross Road, Fort Meade, Maryland 20755-5115.

FOR FURTHER INFORMATION CONTACT: Mr. Jim Gebhardt, Environmental Engineer, Fort Meade Directorate of Public Works, Environmental Management Office at (301) 677-9365.

SUPPLEMENTARY INFORMATION: The DEIS concluded that the cumulative impacts of all past, present and reasonably foreseeable future actions would have a significant impact on traffic and air quality in the study area. Whereas the population in the area immediately surrounding Fort Meade is not expected to noticeably increase, growth in population and activity in the Region of Influence (Anne Arundel and Howard Counties) are expected to exceed the average annual rate in Maryland. Detailed studies concluded, however, that the contribution of Fort Meade is small relative to the regional air quality and traffic problems, and that it is reasonable to proceed with the Proposed Action while intensifying efforts to work in partnership with the State and others to address the larger traffic and air quality issues.

Fort Meade is currently undertaking four initiatives that will help mitigate the adverse air quality impacts in the region: (1) Conversion of existing oil-fired heating systems to natural gas, (2) use of vehicles powered by natured gas, (3) installation of more energy-efficient devices, and (4) fostering an extensive tree planting and reforestation program. To address traffic impacts, Fort Meade is considering encouraging the use of alternative transportation (e.g., carpooling and flextime), although major rail or bus lines do not currently service the installation. In addition, the construction of the MD Route 198 by-pass onto Fort Meade via the former Tipton Army Airfield by the Maryland State Highway Administration is designed to limit the through traffic at Fort Meade to those who reside, work or visit the installation for recreation or other purposes. This is expected to reduce congestion at the intersection of MD Routes 198 and 32.

Other resources that would be measurably affected by the Proposed Action or Alternative A are water quality (by stormwater runoff), utility systems infrastructure, and noise. Considering the best management practices planned by Fort Meade to address these effects, no significant impacts to these resources from the Proposed Action, Alternative A or cumulative effects of other actions are expected to occur. The completion of the 11 projects under the Proposed Action would increase Fort Meade's annual economic contribution to the Region of Influence.

A public meeting will be held after publication of this Notice of Availability of the DEIS during the 45-day public comment period at a date to be announced in the local news media. All interested individuals, private organizations, and government agencies are encouraged to provide input into the EIS review process. All comments received will be addressed and included in the FEIS.

Resource agency coordination was undertaken with the following agencies: U.S. Department of the Interior, Fish and Wildlife Service; National Park Service; U.S. Environmental Protection Agency; State of Maryland Department of Natural Resources, Department of the Environment, Department of Agriculture, Highway Administration, and Historical Trust; Anne Arundel County Office of Planning and Zoning, Soil Conservation District, and Department of Public Works.

Dated: March 7, 2001.
Raymond J. Fatz,
Deputy Assistant Secretary of the Army, (Environment, Safety and Occupational Health), OASA(I&E).

[FR Doc. 01-6187 Filed 3-12-01; 8:45 am]

BILLING CODE 3710-08-M